DEPARTMENT OF AGRICULTURE

Forest Service

Medicine Bow-Routt National Forests and Thunder Basin National Grassland Carbon County, WY; Blackhall-McAnulty Timber Sale, Prescribed Burn and Travel Management; Correction

AGENCY: Forest Service, USDA.

ACTION: Notice of intent to prepare an environmental impact statement; correction.

SUMMARY: The Forest Service published a notice of intent to prepare an environmental impact statement for the Blackhall-McAnulty Timber Sale, Prescribed Burn and Travel Management Analysis in the Federal Register of June 11, 2003. The original notice designated the Forest Supervisor as the Responsible Official. This correction will designate the District Ranger as the Responsible Official.

FOR FURTHER INFORMATION CONTACT: Terry DeLay, Brush Creek/Hayden Ranger District, P.O. Box 249, Saratoga, WY 82331, 307-326-2518.

Correction

In the Federal Register of June 11, 2003, in FR Doc. 03-14672, on page 34902, in the third column, correct the “Responsible Official” caption to read:

Responsible Official

Scott G. Armentrout, District Ranger, Brush Creek/Hayden Ranger District, Medicine Bow-Routt National Forests and Thunder Basin National Grassland, South Highway 130, Saratoga, Wyoming 82331, is the official responsible for making the decision on this action. He will document his decision and rationale in a Record of Decision.

Dated: September 25, 2003.
Scott G. Armentrout,
District Ranger.

[FR Doc. 03-24981 Filed 10-1-03; 8:45 am]

BILLING CODE 3410-11-M